DEPARTMENT OF JUSTICE

Civil Rights Division

Agency Information Collection Activities: Proposed Collection; Comment Request

ACTION: Notice of information collection under review; Extension of a currently approved collection; entitled Complaint Form, Coordination and Review Section, Civil Rights Division, Department of Justice.

The Department of Justice, Civil Rights Division, Coordination and Review Section, has submitted the following information collection request for review and clearance in accordance with the Paperwork Reduction Act of 1995. This proposed information collection is published to obtain comments from the public and affected agencies. Comments are encouraged and will be accepted until November 13, 2000.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

If you have comments, suggestions, or need a copy of the proposed information collection instrument with instructions, or additional information, please contact Merrily A. Friedlander, Chief, Coordination and Review Section, Civil Rights Division, by calling (888) 848-5306 (Voice or TTY), or write her at U.S. Department of Justice, P.O. Box 66560, Washington, DC 20035-6560.

Overview of This Collection

(1) Type of information collection: Extension of Currently Approved Collection.

(2) The title of the form/collection: Complaint Form, Coordination and Review Section, Civil Rights Division, Department of Justice.

(3) The agency form number and applicable component of the Department sponsoring the collection: No form number. Coordination and Review Section, Civil Rights Division, U.S. Department of Justice.

(4) Affected public who will be asked to respond, as well as a brief abstract: Primary: Individuals or Households. The information collected is used to find jurisdiction to investigate the alleged discrimination, to seek whether a referral is necessary, and to provide information needed to initiate investigation of the complaint. Respondents are individuals alleging discrimination.

(5) An estimate of the total number of respondents and the amount of time estimated for an average respondent to respond: 1,560 respondents per year at .5 hours per complaint form.

(6) An estimate of the total public burden (in hours) associated with the collection: 780 annual burden hours.

If additional information is required contact: Mr. Robert B. Briggs, Clearance Office, United States Department of Justice, Information Management and Security Staff, Justice Management Division, Suite 1220, National Place Building, 1331 Pennsylvania Avenue NW., Washington, DC 20530.

Dated: September 5, 2000.
Robert B. Briggs,
Department Clearance Officer, Department of Justice.

[FR Doc. 00-23189 Filed 9-8-00; 8:45 am]

BILLING CODE 4410-13-M